DEPARTMENT OF AGRICULTURE

Animal and Plant Health Inspection Service

[Docket No. APHIS-2012-0021]

Notice of Request for Extension of Approval of an Information Collection; National Poultry Improvement Plan

AGENCY: Animal and Plant Health Inspection Service, USDA.

ACTION: Extension of approval of an information collection; comment request.

SUMMARY: In accordance with the Paperwork Reduction Act of 1995, this notice announces the Animal and Plant Health Inspection Service's intention to request an extension of approval of an information collection associated with regulations for the National Poultry Improvement Plan.

DATES: We will consider all comments that we receive on or before July 24, 2012.

ADDRESSES: You may submit comments by either of the following methods:

• Federal eRulemaking Portal: Go to http://www.regulations.gov/#!documentDetail;D=APHIS-2012-0021-0001.

• Postal Mail/Commercial Delivery: Send your comment to Docket No. APHIS-2012-0021, Regulatory Analysis and Development, PPD, APHIS, Station 3A-03.8, 4700 River Road Unit 118, Riverdale, MD 20737-1238.

Supporting documents and any comments we receive on this docket may be viewed at http://www.regulations.gov/#!docketDetail;D=APHIS-2012-0021 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on regulations for the National Poultry Improvement Plan, contact Dr. Charles Roney, NPIP Coordinator, Veterinary Services, APHIS, 1506 Klondike Road, Suite 300, Conyers, GA 30094; (770) 922-3496. For copies of more detailed information on the information collection, contact Mrs. Celeste Sickles, APHIS' Information Collection Coordinator, at (301) 851-2908.

SUPPLEMENTARY INFORMATION: Title: National Poultry Improvement Plan.

OMB Number: 0579-0007.

Type of Request: Extension of approval of an information collection.

Abstract: Under the Animal Health Protection Act (7 U.S.C. 8301 et seq.), the Animal and Plant Health Inspection Service (APHIS) of the United States Department of Agriculture is authorized to, among other things, administer the National Poultry Improvement Plan (NPIP or the Plan), the primary purpose of which is to protect the health of the U.S. poultry population. NPIP is a voluntary Federal-State-industry cooperative program for the improvement of poultry flocks and products through disease control techniques. Participation in all Plan programs is voluntary, but flocks, hatcheries, and dealers of breeding poultry must first qualify as “U.S. Pullorum-Typhoid Clean” as a condition for participation in the other Plan programs. The NPIP regulations are contained in 9 CFR parts, 56, 145, 146, and 147.

In administering the Plan, APHIS requires a number of information activities and forms, including VS Forms 1-23/1-23A, Appraisal and Indemnity Claim for Animals Destroyed or Materials Destroyed/Continuation Sheet; VS Form 9-3, Report of Sales of Hatching Eggs, Chicks, and Poults; VS Form 9-4, Summary of Breeding, Flock, Table-Egg Layer Flocks, Meat-Type Chicken and Turkey Slaughter Plants Participation; VS Form 9-5, Report of Hatcheries, Dealers, and Independent Flocks, Table-Egg Producers, Meat-Type Chicken and Turkey Slaughter Plants Participating in the NPIP; VS Form 9-6, Report of Salmonella Isolations to NPIP Official State Agencies; VS Form 9-7, Investigation of Salmonella Isolations in Poultry; VS Form 9-8, Flock Inspection and Check Testing Report; VS Form 9-9, Hatchery Inspection Form; VS Form 10-3, Request for Salmonella Serotyping; banding of sentinel birds for identification prior to flock vaccination; memorandums of understanding; recordkeeping; and printing and mailing to States, upon request, of computerized printouts of interstate sales by hatchery operators who ship large numbers of small chick orders.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.61926273 hours per response.

Respondents: Flock owners, breeders, hatchery operators, table-egg producers, meat-type chicken and turkey slaughter plant workers, personnel at approved laboratories, and State personnel.

Estimated annual number of respondents: 10.800.

Estimated annual number of responses per respondent: 15.45490741.

Estimated annual number of responses: 166,913.

Estimated total annual burden on respondents: 103,363 hours. (Due to averaging, the total annual burden hours may not equal the product of the annual number of responses multiplied by the reporting burden per response.)

All responses to this notice will be summarized and included in the request for OMB approval. All comments will also become a matter of public record.

Done in Washington, DC, this 21st day of May 2012.
Kevin Shea,
Acting Administrator, Animal and Plant Health Inspection Service.

[FR Doc. 2012-12764 Filed 5-24-12; 8:45 am]

BILLING CODE 3410-34-P